DEPARTMENT OF HOMELAND SECURITY

U.S. Citizenship and Immigration Services

Agency Information Collection Activities: Form I-912; New Information Collection; Comment Request

ACTION: 60-Day Notice of Information Collection Under Review; Form I-912, Request for an Individual Fee Waiver; OMB Control No. 1615-New.

* * * * *

The Department of Homeland Security, U.S. Citizenship and Immigration Services (USCIS) will be submitting the following information collection request for review and clearance in accordance with the Paperwork Reduction Act of 1995. The information collection is published to obtain comments from the public and affected agencies. Comments are encouraged and will be accepted for sixty days until September 13, 2010.

Written comments and/or suggestions regarding the item(s) contained in this notice, especially regarding the estimated public burden and associated response time, should be directed to the Department of Homeland Security (DHS), USCIS, Chief, Regulatory Products Division, 111 Massachusetts Avenue NW., Washington, DC 20529-2210. Comments may also be submitted to DHS via facsimile to 202-272-8352 or via e-mail at rfs.regs@dhs.gov. When submitting comments by e-mail, please make sure to add OMB Control No. 1615-New in the subject box. Written comments and suggestions from the public and affected agencies concerning the collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this Information Collection:

(1) Type of Information Collection: New information collection.

(2) Title of the Form/Collection: Request for an Individual Fee Waiver.

(3) Agency form number, if any, and the applicable component of the Department of Homeland Security sponsoring the collection: Form I-912; U.S. Citizenship and Immigration Services (USCIS).

(4) Affected public who will be asked or required to respond, as well as a brief abstract: Primary: Individuals or households. The collection of information on Form I-912 is necessary in order for U.S. Citizenship and Immigration Services (USCIS) to make a determination that the applicant is unable to pay the application fee for certain immigration benefits.

(5) An estimate of the total number of respondents and the amount of time estimated for an average respondent to respond: 85,000 responses at 1 hour and 10 minutes (1.166 hours) per response.

(6) An estimate of the total public burden (in hours) associated with the collection: 99,110 annual burden hours.

If you need a copy of the information collection instrument, please visit the Web site at: http://www.regulations.gov/.

We may also be contacted at: USCIS, Regulatory Products Division, 111 Massachusetts Avenue, NW., Washington, DC 20529-2210, Telephone number 202-272-8377.

Dated: July 8, 2010.
Sunday Aigbe,
Chief, Regulatory Products Division, U.S. Citizenship and Immigration Services, Department of Homeland Security.

[FR Doc. 2010-17114 Filed 7-13-10; 8:45 am]

BILLING CODE 9111-97-P